EQUAL EMPLOYMENT OPPORTUNITY COMMISSION

RIN 3046-AA45

Agency Information Collection Activities: Submission for OMB Review

AGENCY: Equal Employment Opportunity Commission.

ACTION: Final notice of submission for OMB review.

SUMMARY: In accordance with the Paperwork Reduction Act of 1995, the Equal Employment Opportunity Commission (EEOC) hereby gives notice that it has submitted to the Office of Management and Budget (OMB) a request for an extension of the existing collection requirements under 29 CFR 1602, Recordkeeping and Reporting Requirements under Title VII and the ADA. The Commission has requested an extension of an existing collection as listed below.

DATES: Written comments on this final notice must be submitted on or before July 6, 2000.

ADDRESSES: The Request for Clearance (SF 83-I), supporting statement, and other documents submitted to OMB for review may be obtained from: Sherman McDaniel, Jr., EEOC Clearance Officer, 1801 L Street, NW, Washington, DC 20507. Send comments regarding any aspect of the information collection to Frances M. Hart, Executive Officer, Executive Secretariat, Equal Employment Opportunity Commission, 10th Floor, 1801 L Street, NW, Washington, DC 20507 and to the Office of Information and Regulatory Affairs, Attention: Danny Werfel, Desk Officer for the U.S. Equal Employment Opportunity Commission, Office of Management and Budget, 725 17th Street, NW, Room 10235, New Executive Office Building, Washington, DC 20503 or electronically mailed to DWERFEL@OMB.EOP.GOV.

FOR FURTHER INFORMATION CONTACT: Nicholas M. Inzeo, Deputy Legal Counsel, Thomas J. Schlageter, Assistant Legal Counsel, or Stephanie D. Garner, Senior Attorney, at (202) 663-4670 or TDD (202) 663-7026. This notice is also available in the following formats: large print, braille, audio tape and electronic file on computer disk. Requests for this notice in an alternative format should be made to the Publications Center at 1-800-669-3362.

SUPPLEMENTARY INFORMATION: A notice that EEOC would be submitting this request was published in the Federal Register on March 21, 2000, allowing for a 60-day public comment period. No commentators responded.

Type of Review: Extension—No change.

Collection Title: Recordkeeping and Reporting under Title VII and the ADA.

Form No.: None.

Frequency of Report: Other.

Type of Respondent: Employers with 15 or more employees.

Description of Affected Public: Employers with 15 or more employees are subject to Title VII and the ADA.

Responses: 627,000.

Reporting Hours: None.

Federal Cost: None.

Number of Forms: None.

Abstract: Section 709 of Title VII, 42 U.S.C. 2000e and section 107(a) of the ADA, 42 U.S.C. 12117 require the Commission to establish regulations pursuant to which employers subject to those Acts shall make and preserve certain records to assist the EEOC in assuring compliance with the Acts' nondiscrimination requirements in employment.

This is a recordkeeping requirement. Any of the records maintained which are subsequently disclosed to the EEOC during an investigation are protected from public disclosure by the confidentiality provisions of section 706(b) and 709(e) of Title VII, by incorporation, section 107(a) of the ADA.

Burden Statement: The EEOC estimates that there will be no increased burden on employers. All employers subject to Title VII are also subject to the ADA, and the same EEOC records retention requirements are applicable to both. As all employers with 15 or more employees are already required by the EEOC's Title VII regulations on recordkeeping to maintain the same records, and the extension does not require reports or the creation or maintenance of new documents, there is no increased burden.

Dated: May 1, 2000.
For the Commission.
Ida L. Castro,
Chairwoman.

[FR Doc. 00-14105 Filed 6-5-00; 8:45 am]

BILLING CODE 6750-01-P